SOCIAL SECURITY ADMINISTRATION

[Docket No. SSA-2020-0026]

Privacy Act of 1974; System of Records

AGENCY: Office of the General Counsel and Office of Hearings Operations, Social Security Administration (SSA).

ACTION: Notice of a modified system of records.

SUMMARY: In accordance with the Privacy Act, we are issuing public notice of our intent to modify an existing system of records entitled, Representative Disqualification, Suspension, and Non-Recognition File (60-0219), last published on May 10, 2010. This notice publishes details of the modified system as set forth below under the caption, SUPPLEMENTARY INFORMATION.

DATES: The system of records notice (SORN) is applicable upon its publication in today's Federal Register, with the exception of the new routine uses, which are effective January 6, 2021. We invite public comment on the routine uses or other aspects of this SORN. In accordance with 5 U.S.C. 552a(e)(4) and (e)(11), we are providing the public a 30-day period in which to submit comments. Therefore, please submit any comments by January 6, 2021.

ADDRESSES: The public, Office of Management and Budget (OMB), and Congress may comment on this publication by writing to the Executive Director, Office of Privacy and Disclosure, Office of the General Counsel, SSA, Room G-401 West High Rise, 6401 Security Boulevard, Baltimore, Maryland 21235-6401, or through the Federal e-Rulemaking Portal at http://www.regulations.gov. Please reference docket number SSA-2020-0026. All comments we receive will be available for public inspection at the above address and we will post them to http://www.regulations.gov.

FOR FURTHER INFORMATION CONTACT: Tristin Dorsey, Government Information Specialist, Privacy Implementation Division, Office of Privacy and Disclosure, Office of the General Counsel, SSA, Room G-401 West High Rise, 6401 Security Boulevard, Baltimore, Maryland 21235-6401, telephone: (410) 966-5855, email: tristin.dorsey@ssa.gov.

SUPPLEMENTARY INFORMATION: We are modifying the system manager and location to clarify the offices responsible for maintaining the system and the locations of the records within the system. We are clarifying that only the Office of the General Counsel (OGC) may make disclosures to the agencies and entities listed in routine uses Nos. 2, 3, and 4.

In addition, we are expanding routine use No. 4 to include that OGC may make disclosures to the subject of an investigation or his or her legal counsel, for the purposes of identifying the representative of record, explaining the purpose of the request, and identifying and requesting information SSA needs to facilitate the investigation of, or litigation against, a representative. We are clarifying the language in routine use Nos. 8 and 17 for easier reading. We are also clarifying that we will retrieve records by claimant identification number and other claimant information that is relevant to the investigation.

Lastly, we are modifying the notice throughout to correct miscellaneous stylistic formatting and typographical errors of the previously published notice, and to ensure the language reads consistently across multiple systems. We are republishing the entire notice for ease of reference.

In accordance with 5 U.S.C. 552a(r), we have provided a report to OMB and Congress on this modified system of records.

Matthew Ramsey,
Executive Director, Office of Privacy and Disclosure, Office of the General Counsel.

SYSTEM NAME AND NUMBER:

Representative Disqualification, Suspension, and Non-Recognition Information File, 60-0219.

SECURITY CLASSIFICATION:

Unclassified.

SYSTEM LOCATION:

Social Security Administration, Office of the General Counsel, Office of General Law, 6401 Security Boulevard, Room 617 Altmeyer Building, Baltimore, Maryland 21235-6401.

Office of the Regional Chief Counsels (see Appendix C, #5 for address information)

Social Security Administration, Office of Hearings Operations, Office of the Chief Administrative Law Judge, Suite 1608, One Skyline Tower, 5107 Leesburg Pike, Falls Church, VA 22041.

Office of Hearing Operations regional offices (see Appendix F for address information)

SYSTEM MANAGER(S):

Social Security Administration, Associate General Counsel for General Law, Office of the General Counsel, Office of General Law, 6401 Security Boulevard, Room 617 Altmeyer Building, Baltimore, MD 21235-6401, (410) 966-5855.

Social Security Administration, Regional Chief Counsels (see Appendix C, #5 for address information), (410) 966-5855.

Social Security Administration, Office of Hearings Operations, Chief Administrative Law Judge, Suite 1608, One Skyline Tower, 5107 Leesburg Pike, Falls Church, VA 22041, (410) 966-5855.

Social Security Administration, Regional Chief Administrative Law Judges (see Appendix F for address information), (410) 966-5855.

AUTHORITY FOR MAINTENANCE OF THE SYSTEM:

Sections 206(a) and 1631(d)(2) of the Social Security Act, as amended, and SSA Regulations (20 CFR part 404, subpart R and Part 416, Subpart O).

PURPOSE(S) OF THE SYSTEM:

The information in this system provides real-time access to information key to the Office of Hearings Operations' business process for referring a representative to the Office of the General Counsel (OGC) for investigation of alleged misconduct or lack of qualification. The information in this system also includes information related to OGC's business process for seeking the disqualification or suspension of representatives. For example, the records provide timely access to information we need to make decisions about whether persons meet our qualifications to serve as representatives and whether violations of the provisions of the Social Security Act or regulations relating to representation have occurred.

Information in this system also enables us to more efficiently investigate alleged administrative or criminal violations; take action against representatives; respond to the Appeals Council when a representative has requested reinstatement; provide detailed notice of, and information in cases in which we have disqualified or suspended a representative; and assist the Department of Justice in Federal court litigation, including that which relates to our decision to disqualify or suspend a representative or not recognize an individual as a representative.

CATEGORIES OF INDIVIDUALS COVERED BY THE SYSTEM:

This system maintains information about individuals who allegedly fail to meet our qualifications to serve as representatives before us, as provided by the Social Security Act or regulations relating to representation of claimants and beneficiaries. This system also maintains information about representatives alleged to have violated the provisions of the Social Security Act or our regulations relating to representation of claimants and beneficiaries; representatives whom we have found to have committed such violations and we have disqualified or suspended; and representatives whom we have investigated, but have not disqualified or suspended, because we resolved the matter without an action to disqualify or suspend the representative, or because we found that no violations occurred.

CATEGORIES OF RECORDS IN THE SYSTEM:

This system consists of records pertaining to individuals providing representational services to our claimants, as well as, representatives who have represented claimants and beneficiaries before us. For example, we collect the representative's name; date of birth; Social Security number (SSN); representative identification number; home or business address(es); telephone and fax numbers; email address; and type of representative (i.e., attorney or non-attorney).

This system also consists of records regarding the representative's legal standing and business affiliations. For example, we collect the representative's status (e.g., suspended or disqualified to act as a representative before SSA); bar, court, and Federal program or agency admission information (e.g., year admitted, license number, present standing, and disciplinary history); copies of all documentation resulting from our investigation and actions taken due to violations of the Social Security Act and our regulations relating to the representative; employer identification number; and relevant claimant and beneficiary information.

The following are examples of information covered in this system relating to the representation of beneficiaries and claimants:

• Documentation resulting from our investigation or actions taken due to violations of the Social Security Act or our regulations;

• Documentation relating to any request for recognition or reinstatement that a non-recognized person or disqualified or suspended representative files with us;

• Documentation pertaining to hearings on charges of alleged violations of the Social Security Act or our regulations; and

• Information collected on our paper and electronic forms.

The system also consists of records pertaining to Appeal Council reviews of the decisions rendered in hearings, on charges of violations of the Social Security Act or our regulations, or requests for reinstatement to practice as a representative before us; copies of notifications of a representative's disqualification or suspension or a person's non-recognition; and documentation pertaining to any legal or administrative action that a disqualified or suspended representative, or non-recognized person brings against us.

RECORD SOURCE CATEGORIES:

We obtain information in this system of records from existing SSA systems of records such as the Claims Folders System, (60-0089) Master Beneficiary Record (60-0090); Supplemental Security Income Record and Special Veterans Benefits (60-0103); Electronic Disability Claim File (60-0320), and Appointed Representative File (60-0325).

ROUTINE USES OF RECORDS MAINTAINED IN THE SYSTEM, INCLUDING CATEGORIES OF USERS AND PURPOSES OF SUCH USES:

We will disclose records pursuant to the following routine uses; however, we will not disclose any information defined as “return or return information” under 26 U.S.C. 6103 of the Internal Revenue Code (IRC), unless authorized by a statute, the Internal Revenue Service (IRS), or IRS regulations.

1. To applicants for benefits or payments, claimants, and beneficiaries to inform them that we have disqualified or suspended the representative from further representation before us or that the person was not recognized as a representative, and the basis for our action.

2. OGC may make disclosures to a Federal or State court, administrative tribunal, or bar disciplinary authority or other authority in the Federal jurisdiction(s) or State(s) in which an attorney is admitted to practice to the extent necessary to inform them that we have disqualified or suspended the attorney from representing claimants or beneficiaries before us and the basis for our action.

3. OGC may make disclosures to an official or employee of a Federal, State, or local agency to the extent necessary to inform him or her that we have disqualified or suspended a representative from representing claimants or beneficiaries before us, and the basis for our action, to permit that agency to perform its official duties related to representation of parties before that agency.

4. To any person or entity, including legal counsel for a representative, from which OGC needs information for investigation or litigation of any action against a representative about whom the record is maintained; to inform the individual or entity of the purpose(s) of the request; and to identify the type of information needed, and if it is in the possession of the person or entity, to request it. OGC will disclose information under this routine use to any person, entity, or representative, and his or her legal counsel, for the purpose of, and to the extent necessary, to identify the representative of record, explain the purpose of our request, and identify and request information we need to facilitate our investigation of, or litigation against, the representative.

5. To the Department of Justice (DOJ), a court or other tribunal, or another party before such court or tribunal, when

(a) SSA, or any component thereof; or

(b) any SSA employee in his or her official capacity; or

(c) any SSA employee in his or her individual capacity where DOJ (or SSA where it is authorized to do so) has agreed to represent the employee; or

(d) the United States or any agency thereof where we determine the litigation is likely to affect SSA or any of its components, is a party to the litigation or has an interest in such litigation, and SSA determines that the use of such records by DOJ, a court or other tribunal, or another party before the tribunal, is relevant and necessary to the litigation, provided, however, that in each case, we determine that such disclosure is compatible with the purpose for which the records were collected.

6. To DOJ, the Federal Bureau of Investigation, Offices of United States Attorneys, and other Federal law enforcement agencies as necessary, for investigation and potential prosecution of violations of the Social Security Act.

7. To a congressional office in response to an inquiry from that office made on behalf of, and at the request of, the subject of the record or a third party acting on the subject's behalf.

8. To the public, via our website at www.ssa.gov, to advise that we have disqualified or suspended an individual from representing claimants before us, or have not recognized an individual as a representative.

9. To individuals, groups, organizations, or government entities that routinely refer potential claimants or beneficiaries to attorneys or individuals other than attorneys for the purpose of putting such individuals, groups, organizations, or government entities on notice that we have disqualified or suspended a representative from representation before us, or not recognized that individual as a representative.

10. To any individual or entity with whom the representative is affiliated or has indicated that he or she wants to be affiliated in representing claimants before us, notice that we have disqualified or suspended the affiliated or potentially affiliated representative from representation before us, or not recognized that individual as a representative.

11. To the National Archives and Records Administration (NARA) under 44 U.S.C. 2904 and 2906.

12. To appropriate agencies, entities, and persons when:

(a) SSA suspects or has confirmed that there has been a breach of the system of records;

(b) SSA has determined that as a result of the suspected or confirmed breach there is a risk of harm to individuals, SSA (including its information systems, programs, and operations), the Federal Government, or national security; and

(c) the disclosure made to such agencies, entities, and persons is reasonably necessary to assist in connection with SSA's efforts to respond to the suspected or confirmed breach or to prevent, minimize, or remedy such harm.

13. To the Office of the President, in response to an inquiry received from that office made on behalf of, and at the request of, the subject of record or a third party acting on the subject's behalf.

14. To student volunteers, individuals working under a personal services contract, and other workers who technically do not have the status of Federal employees, when they are performing work for us, as authorized by law, and they need access to personally identifiable information (PII) in our records to perform their assigned agency functions.

15. To Federal, State and local law enforcement agencies and private security contractors, as appropriate, information necessary:

(a) to enable them to protect the safety of SSA employees and customers, the security of the SSA workplace and the operation of our facilities, or

(b) to assist investigations or prosecutions with respect to activities that affect such safety and security or activities that disrupt the operation of our facilities.

16. To contractors and other Federal agencies, as necessary, for the purpose of assisting us in the efficient administration of its programs. We will disclose information under this routine use only in situations in which we may enter into a contractual or similar agreement to obtain assistance in accomplishing an SSA function relating to this system of records.

17. OGC may make disclosures to a Federal or State court, administrative tribunal, bar disciplinary authority or other authority as necessary, to permit these authorities to investigate and conduct proceedings relating to potential professional disciplinary actions or other measures relating to the authorities' regulation of professional conduct.

18. To another Federal agency or Federal entity, when we determine that information from this system of records is reasonably necessary to assist the recipient agency or entity in:

(a) Responding to a suspected or confirmed breach; or

(b) preventing, minimizing, or remedying the risk of harm to individuals, the recipient agency or entity (including its information systems, programs, and operations), the Federal Government, or national security, resulting from a suspected or confirmed breach.

POLICIES AND PRACTICES FOR STORAGE OF RECORDS:

We will maintain records in this system in paper and in electronic form.

POLICIES AND PRACTICES FOR RETRIEVAL OF RECORDS:

We will retrieve records in this system by name, SSN, claimant or representative identification number, or other claimant information that is relevant to the investigation.

POLICIES AND PRACTICES FOR RETENTION AND DISPOSAL OF RECORDS:

In accordance with NARA rules codified at 36 CFR 1225.16, we maintain records in accordance with agency-specific records schedule N1-047-10-004/I.E.

ADMINISTRATIVE, TECHNICAL, AND PHYSICAL SAFEGUARDS:

We retain electronic and paper files containing personal identifiers in secure storage areas accessible only by our authorized employees and contractors who have a need for the information when performing their official duties. Security measures include, but are not limited to, the use of codes and profiles, personal identification number and password, and personal identification verification cards. We restrict access to specific correspondence within the system based on assigned roles and authorized users. We maintain electronic files with personal identifiers in secure storage areas. We use audit mechanisms to record sensitive transactions as an additional measure to protect information from unauthorized disclosure or modification. We keep paper records in cabinets within secure areas, with access limited to only those employees who have an official need for access in order to perform their duties.

We annually provide our employees and contractors with appropriate security awareness training that includes reminders about the need to protect PII and the criminal penalties that apply to unauthorized access to, or disclosure of, PII (5 U.S.C. 552a(i)(1)). Furthermore, employees and contractors with access to databases maintaining PII must annually sign a sanctions document that acknowledges their accountability for inappropriately accessing or disclosing such information.

RECORD ACCESS PROCEDURES:

Individuals may submit requests for information about whether this system contains a record about them by submitting a written request to the system manager at the above address, which includes their name, SSN, or other information that may be in this system of records that will identify them. Individuals requesting notification of, or access to, a record by mail must include: (1) A notarized statement to us to verify their identity; or (2) must certify in the request that they are the individual they claim to be and that they understand that the knowing and willful request for, or acquisition of, a record pertaining to another individual under false pretenses is a criminal offense.

Individuals requesting notification of, or access to, records in person must provide their name, SSN, or other information that may be in this system of records that will identify them, as well as provide an identity document, preferably with a photograph, such as a driver's license. Individuals lacking identification documents sufficient to establish their identity must certify in writing that they are the individual they claim to be and that they understand that the knowing and willful request for, or acquisition of, a record pertaining to another individual under false pretenses is a criminal offense.

These procedures are in accordance with our regulations at 20 CFR 401.40 and 401.45.

CONTESTING RECORD PROCEDURES:

Same as record access procedures. Individuals should also reasonably identify the record, specify the information they are contesting, and state the corrective action sought and the reasons for the correction with supporting justification showing how the record is incomplete, untimely, inaccurate, or irrelevant. These procedures are in accordance with our regulations at 20 CFR 401.65(a).

NOTIFICATION PROCEDURES:

Same as records access procedures. These procedures are in accordance with our regulations at 20 CFR 401.40 and 401.45.

EXEMPTIONS PROMULGATED FOR THE SYSTEM:

None.

HISTORY:

75 FR 25904, Representative Disqualification, Suspension, and Non-Recognition Information File.

80 FR 919, Representative Disqualification, Suspension, and Non-Recognition Information File.

83 FR 54969, Representative Disqualification, Suspension, and Non-Recognition Information File.

[FR Doc. 2020-26794 Filed 12-4-20; 8:45 am]

BILLING CODE 4191-02-P